ENVIRONMENTAL PROTECTION AGENCY

[EPA-R10-OW-2014-0505; FRL-9922-23-Region-10]

Notice of Status Update on the Proposed Determination for the Pebble Deposit Area, Southwest Alaska

AGENCY: Environmental Protection Agency.

ACTION: Notice of status update.

SUMMARY: On July 21, 2014, the U.S. Environmental Protection Agency (EPA) published in the Federal Register a Notice of Proposed Determination, under Section 404(c) of the Clean Water Act, to restrict the use of certain waters in the South Fork Koktuli River, North Fork Koktuli River, and Upper Talarik Creek watersheds in Southwest Alaska as disposal sites for dredged or fill material associated with mining the Pebble deposit, a copper-, gold-, and molybdenum-bearing ore body. On September 19, 2014, EPA published in the Federal Register a notice extending the time period to either withdraw the Proposed Determination or to prepare the Recommended Determination until no later than February 4, 2015. As part of ongoing litigation brought by the Pebble Limited Partnership, on November 25, 2014, a Federal District Court Judge issued a preliminary injunction that requires EPA to stop all work connected to the 404(c) proceeding, including reviewing and considering public comments. EPA is complying with the court's order and as such is not taking any steps to withdraw the Proposed Determination or to prepare a Recommended Determination while the preliminary injunction is in place.

Dated: January 21, 2015.
Dennis J. McLerran,
Regional Administrator, EPA Region 10.

[FR Doc. 2015-01701 Filed 1-28-15; 8:45 am]

BILLING CODE 6560-50-P